DEPARTMENT OF THE INTERIOR

Fish and Wildlife Service

Notice of Decision and Availability of the Record of Decision for the Final Environmental Impact Statement for the Stillwater National Wildlife Refuge Complex Comprehensive Conservation Plan and Boundary Revision, Churchill and Washoe Counties, NV

AGENCY: Fish and Wildlife Service, Interior.

ACTION: Notice of Decision and Availability of the Record of Decision for the Final Environmental Impact Statement for the Stillwater National Wildlife Refuge Complex Comprehensive Conservation Plan and Boundary Revision.

SUMMARY: This is a notice of decision and availability of the Record of Decision (ROD) for the Final Environmental Impact Statement for the Stillwater National Wildlife Refuge Complex Comprehensive Conservation Plan and Boundary Revision (Final CCP EIS), Churchill and Washoe Counties, Nevada. Pursuant to the Council on Environmental Quality regulations implementing the National Environmental Policy Act (NEPA; 40 CFR 1505.2) and the U.S. Fish and Wildlife Service's (Service) Comprehensive Conservation Plan policy, the Service issues this ROD upon consideration of the Final CCP EIS prepared for the proposed action to develop and implement a comprehensive conservation plan for the Stillwater National Wildlife Refuge Complex. The Final CCP EIS was released to the public on May 29, 2002. A Notice of Availability of the Final CCP EIS was published in the Federal Register on May 31, 2002 (67 FR 38142). The ROD, which documents the selection of the Preferred Alternative as presented in the Final CCP EIS, was signed by U.S. Fish and Wildlife Service California/Nevada Office Manager Steve Thompson, on April 2003. The determination was based on a thorough analysis of the environmental, social, and economic considerations presented in the Final CCP EIS.

FOR FURTHER INFORMATION CONTACT: Project Leader, Stillwater National Wildlife Refuge Complex, 1000 Auction Road, Fallon, Nevada 89406, (775) 423-5128. A copy of the ROD or Final CCP EIS may be obtained from the above address or by download from: http://pacific.fws.gov/planning/.

SUPPLEMENTARY INFORMATION: The following is a summary of the Record of Decision for the Final Environmental Impact Statement for the Stillwater National Wildlife Refuge Complex Comprehensive Conservation Plan and Boundary Revision.

The U.S. Fish and Wildlife Service (Service) began developing a comprehensive conservation plan (CCP) for the Stillwater National Wildlife Refuge Complex (NWRC) in early 1997. The Final Environmental Impact Statement for the Stillwater NWRC Comprehensive Conservation Plan and Boundary Revision (Final CCP EIS) identifies and evaluates five alternatives for managing the Stillwater NWRC for the next 15 years. Each alternative consists of two main parts: (1) A boundary revision for Stillwater National Wildlife Refuge (NWR), and (2) the framework of a CCP, including refuge goals, objectives, and strategies, for achieving the purposes for which each refuge was established and for contributing toward the mission of the National Wildlife Refuge System. The Stillwater NWRC currently includes Stillwater NWR, Stillwater Wildlife Management Area (WMA), Fallon NWR, and Anaho Island NWR, which are located in west-central Nevada.

The Record of Decision (ROD) is a statement of the decision made, including how the decision responds to primary issues, other alternatives considered, public involvement in the decision making process, and the basis for the decision.

Decision

The U.S. Fish and Wildlife Service will implement Alternative E for the Stillwater NWRC, which was identified in the Final CCP EIS as the alternative that provides the best balance between satisfying the National Wildlife Refuge System and Service missions and purposes of Stillwater NWR and Anaho Island NWR and providing opportunities for compatible refuge uses. Alternative E also recognizes the need to protect cultural resources. Some guidelines and actions in Alternative E remain consistent with those presented in Alternative C of the Draft CCP EIS. Others were modified in the Final CCP EIS to respond to public comments and concerns. Alternative E, which is supported by the majority of the commenting public and endorsed by the Nevada Division of Wildlife and the Nevada Board of Wildlife Commissioners, represents the CCP which will guide Stillwater NWR and Anaho Island NWR management for the next 15 years.

Alternative E focuses on approximating natural habitat conditions as the primary means to conserve and manage the refuges' wildlife, restore their natural biological diversity, and fulfill international treaty obligations with respect to fish and wildlife, with the understanding that events occurring over the past 100 years have substantially altered habitat conditions. The needs of particular species, including species highlighted in regional conservation plans, may be used to adjust management practices where this is deemed necessary and within the general framework established by Alternative E. The following is a brief summary of key components.

Contingent on approval of the Stillwater NWRC Land Protection Plan proposed in the Final CCP EIS, Alternative E would expand the approved boundary of Stillwater NWR to include a majority of the lands that are now inside the Stillwater WMA and portions of Fallon NWR, as well as six sections of land along the lower Carson River and 26 sections north of the existing Stillwater NWR. Major habitats proposed to be added to Stillwater NWR would be the lower Carson River and its delta marsh, the sand dunes along the southern edge of the Carson Sink, and the stabilized dunes and salt desert shrub habitat between the Carson River and Stillwater Marsh. The revised boundary of Stillwater NWR would exclude the northern portions of Fallon NWR and the western portions of the Stillwater WMA. Stillwater WMA would no longer be managed by the Service under an agreement with the Bureau of Reclamation. Although the size of Stillwater NWR would increase, the acreage of Federal lands managed primarily for wildlife in the Lahontan Valley would decline by about 25,517 acres. The most important lands with respect to refuge purposes and wetlands protection would be retained. Under this proposal, the approved boundary of Stillwater NWR would include about 172,254 acres, of which about 137,504 acres would be Federal. The acreage of non-Federal inholdings within the boundaries of Federal wildlife areas in the Lahontan Valley would decline by about 40 percent.

Some of these boundary revisions cannot be accomplished without Congressional action. Consistent with Public Law 101-618, the Service intends to recommend that Congress, through special legislation: (1) Revoke the wildlife reservation on Bureau of Reclamation lands known as Fallon NWR; (2) abolish the name Fallon NWR; and (3) establish primary Service jurisdiction on those portions of Stillwater WMA and the former Fallon NWR which the Service proposes to include in the revised Stillwater NWR boundary.

Anaho Island NWR will be managed as it has in the past, with no intent to conduct active habitat management. Habitat management on Stillwater NWR will focus on providing a variety of native wetland, riparian, and upland plant communities through the use of water management, integrated pest management, prescribed fire, and other tools described in the Final CCP EIS. A Habitat Management Plan will be developed concurrent with initial implementation of the CCP. A draft Integrated Pest Management Plan and an approved Fire Management Plan have already been prepared.

Water management on Stillwater NWR will focus on providing spring migration and breeding habitat. However, up to 25% of the refuge's acquired water rights will be reserved for fall delivery (October-November) to provide habitat for fall waterbird migration and for wildlife dependent recreational uses. A primary objective of water management will be to reduce salinity in wetland units located at higher elevations or in specified flow corridors to provide conditions suitable for native plant restoration.

Livestock grazing and muskrat trapping will no longer be allowed as commercial uses but can be used as habitat management tools to meet specific habitat objectives. Livestock grazing will no longer be allowed in uplands, which should aid native vegetation establishment in upland habitats. Farming will be allowed on up to 300 acres, but will require water from other sources to facilitate agricultural production. Compatibility determinations have been prepared that describe the stipulations associated with implementation of these management activities.

Priority wildlife dependent recreational uses found compatible on Stillwater NWR include hunting, wildlife observation and photography, and environmental education and interpretation. Additionally, horseback riding was found to be compatible. Anaho Island NWR will remain closed to all public access.

Hunting will be allowed on Stillwater NWR during all State of Nevada designated seasons for big game, upland game, and migratory birds. All wetland units historically open to waterfowl hunting will remain open. Boat access options will vary depending on wetland unit, but will include areas designated for non-motorized boats, motorized boats, or air-thrust boats, as well as areas designated for no boat use.

Options for wildlife observation and photography at Stillwater NWR will be enhanced through development of a ten-mile auto tour loop within the existing sanctuary, and trails at Stillwater Point Reservoir, Timber Lakes, and the lower Carson River. Outdoor education and interpretation will be promoted through development of a visitor center and outdoor education site along the ten-mile tour loop. A sign plan is currently being developed to evaluate interpretive opportunities along refuge roads and trails.

Alternative E, selected for implementation, represents the best balance between refuge purposes, resource conservation, and compatible wildlife dependent public use.

Other Alternatives Considered

The Draft CCP EIS and Final CCP EIS evaluated four other alternatives for the management of Stillwater NWRC. Under all alternatives, Anaho Island NWR would continue to be managed much as it has in the past for the protection of colonial nesting birds. The No Action Alternative (Alternative A) would retain the existing Stillwater NWR boundaries and baseline management as outlined in the 1987 Management Plan for Stillwater WMA and modified by the Service's water rights acquisition program. Alternative B would result in the lands within Stillwater WMA reverting back to U.S. Bureau of Reclamation management or other public land status. Management would focus on providing fall and winter habitat for waterfowl and opportunities for waterfowl hunting on Stillwater NWR, and breeding habitat for waterbirds on Fallon NWR. Under Alternative C, the Service would seek legislation to expand the Stillwater NWR boundary to include much of Stillwater WMA and Fallon NWR to conserve additional riparian and dune habitat. This alternative would emphasize the approximation of natural biological diversity with adjustments to enhance breeding habitat for waterbirds and fall and winter habitat for waterfowl, and would provide enhanced opportunities for wildlife observation and environmental education. Under Alternative D, legislation would also be sought to expand the Stillwater NWR boundary to include much of Stillwater WMA and Fallon NWR to conserve additional riparian and sand dune habitat. Management of Stillwater NWR would focus on restoring natural hydrologic patterns and other ecological processes. Visitor services management would focus on providing opportunities for wildlife observation and environmental education. These alternatives were not selected for implementation because they did not balance resource conservation goals with compatible public use as well as the selected alternative.

Public Involvement and Comments Received

Prior to release of the Final CCP EIS, the Service met with a variety of Federal agencies, the Nevada Division of Wildlife, local Native American Tribes, municipal governments, and several interest groups on a number of occasions, and held open houses to receive public comment. Seven planning updates were sent out to all on the mailing list. Fifty-four contributors provided 1,004 comments on the Draft CCP EIS. A complete history of the public involvement, comment period, and Service responses to comments are included in the Final CCP EIS.

The Service received only two comments following the distribution of the Final CCP EIS. Mr. John T. Moran, Jr., Chairman of the State of Nevada Board of Wildlife Commissioners (Commission), sent a letter confirming the Commission's unanimous decision to support the Service's selection and adoption of preferred Alternative E in the Final CCP EIS, provided no administrative changes to the intent of Alternative E as written were made. Comments on the Draft CCP EIS submitted by the Nevada Division of Wildlife sponsored working group were considered during development of the preferred Alternative E in the Final CCP EIS, and were incorporated into the Service's revised position as presented in Planning Update #7 (July 2001) for public review. No substantive changes were made from the information presented in the update, and this information was used to develop the visitor services, habitat management, and wildlife management options presented in Alternative E.

Ms. Lisa B. Hanf, Manager of the Federal Activities Office, U.S. Environmental Protection Agency (EPA), Region IX, submitted comments in support of the Service's decision to select preferred Alternative E for implementation and expressed appreciation for the Service's response to their comments regarding the Draft CCP EIS. Ms. Hanf further noted that EPA was currently working with the Service, U.S. Geological Survey, and the University of Nevada, Reno to identify measures that will reduce mercury transport to the wetlands, and appreciated the Service's attempts to identify potential mitigation strategies to improve the quality of water entering the wetlands. The Service is committed to improving the quality of water entering the wetlands and, as noted, has identified a number of mitigation strategies which could be used. The Service appreciates the opportunity to continue working closely with EPA and other entities actively involved in restoring the environmental health of wetland habitats at Stillwater NWR.

Churchill County Chair Gwen Washburn submitted comments reiterating the County's opposition to the refuge's proposed water management program and the proposed boundary revisions due to perceived impacts to the local economy, County and private inholdings and ground water resources. The County provided similar comments on the draft CCP/EIS and the Service provided detailed responses to the County's comments in the Final CCP/EIS. The Service has provided clarifications in response to Churchill County comments on the Final CCP/EIS under separate letter. No new information was received that would alter the conclusions contained in the Final CCP/EIS.

Environmentally Preferable Alternative

The alternative which causes the least damage to the biological and physical environment and best protects, preserves, and enhances historic, cultural, and natural resources is Alternative C, Option 1.

The focus of Alternative C, Option 1, was to manage the Stillwater NWR by using water management to simulate natural hydrologic processes to restore and maintain natural biological diversity. Another primary element was to increase the balance between the needs of wildlife resources and the recreational needs of a rapidly expanding local and regional population base, while providing equal emphasis to priority wildlife-dependent recreational uses. Additional sanctuary would have been provided in the area currently open to public use and access would have been restricted to open roads with vehicle pullouts. Boat access during waterfowl hunting season would have been restricted to 15 horsepower outboard motor boats with a 5 miles per hour restriction on speed, and a no boating designation would have been applied to some wetland units. Alternative C, Option 1, did not represent the best balance between resource conservation and public use when compared to Alternative E.

Findings and Basis for Decision

Based upon review and careful consideration of the impacts identified in the Final CCP EIS; results of the various studies and surveys conducted in conjunction with the Draft and Final CCP EIS; public comments received throughout the process including comments on the Draft and Final CCP EIS; and other relevant factors, including the purposes for each refuge established pursuant to Public Law 101-618 (104 Stat. 3289), and other statutory and regulatory guidance; the Service finds that:

(1) Alternative E consists of the components, programs, and facilities described above.

(2) Alternative E, as it is described in the Final CCP EIS for the Stillwater National Wildlife Refuge Complex, provides the best balance between accomplishing the purposes for which Stillwater NWR and Anaho Island NWR and statutory mission of the Service to provide long-term protection of the Refuges' resources and allowing for appropriate levels of visitor use and appropriate means of visitor enjoyment. Alternative E accomplishes identified management goals and desired future conditions.

(3) Alternative E represents the best balance between provision of habitat restoration, public access and recreation, and other programs, and public and agency concerns identified during the public participation process.

(4) Based on an Intra-Service Section 7 evaluation, no state or federally listed endangered or threatened species or their critical habitats are known to be adversely affected by Alternative E. Implementation of the decision will avoid significant adverse impacts on wetlands and is not likely to adversely affect any endangered or threatened species, or result in destruction or adverse modification of critical habitat of such species. The Service has determined that implementation of Alternative E will result in a beneficial effect to bald eagle, and is not likely to adversely affect threatened Lahontan cutthroat trout or endangered cui-ui.

(5) No historic properties listed in or eligible for listing in the National Register of Historic Places are known to be affected by the plan.

(6) The requirements of NEPA and the implementing regulations (40 CFR Parts 1500-1508) have been satisfied.

Measures To Minimize Environmental Harm

Public concerns, potential impacts, and methods or stipulations to mitigate those impacts are addressed in the Final CCP EIS. All practicable measures to avoid or minimize environmental impacts that could result from implementation of the selected action have been identified and incorporated into the selected action. Implementation of the selected action will avoid any adverse impacts on wetlands and any endangered or threatened species, and will not result in the destruction or adverse modification of critical habitat of such species. Mitigation measures, called stipulations, that will be followed are documented in Appendix O, Compatibility Determinations, in the Final CCP EIS. These stipulations make public and other uses compatible with the purpose for which the refuge was established. The referenced compatibility stipulations ensure that all practical means to avoid or minimize environmental harm from implementation of Alternative E have been adopted.

The Service has considered the environmental and relevant concerns presented by agencies, organizations and individuals on the proposed action to develop and implement a comprehensive conservation plan and boundary revision for the Stillwater National Wildlife Refuge Complex. I have decided to implement Alternative E, the Service's preferred alternative. The ROD documents the written facts and conclusions relied upon in reaching this decision.

Dated: April 7, 2003.
Steve Thompson,
Manager, California/Nevada Operations Office, Sacramento, California.

[FR Doc. 03-9110 Filed 4-14-03; 8:45 am]

BILLING CODE 4310-55-P